INTERNATIONAL TRADE COMMISSION

[USITC SE-19-033]

Sunshine Act Meetings

Agency Holding the Meeting: United States International Trade Commission.

TIME AND DATE: September 16, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. No. 731-TA-1427 (Final) (Refillable Stainless Steel Kegs from Mexico). The Commission is currently scheduled to complete and file its determination and views of the Commission by October 2, 2019.

5. Outstanding action jackets: None.

The Commission is holding the meeting under the Government in the Sunshine Act, 5 U.S.C. 552(b). In accordance with Commission policy, subject matter listed above, not disposed of at the scheduled meeting, may be carried over to the agenda of the following meeting.

By order of the Commission.
Issued: September 3, 2019.
William Bishop,
Supervisory Hearings and Information Officer.

[FR Doc. 2019-19279 Filed 9-3-19; 4:15 pm]

BILLING CODE 7020-02-P